DEPARTMENT OF COMMERCE

International Trade Administration

[A-580-855]

Notice of Implementation of Determination Under Section 129 of the Uruguay Round Agreements Act and Revocation of the Antidumping Duty Order on Diamond Sawblades and Parts Thereof From the Republic of Korea

AGENCY: Import Administration, International Trade Administration, Department of Commerce.

SUMMARY: On May 13, 2011, the U.S. Trade Representative (“USTR”) instructed the Department of Commerce (“Department”) to issue a determination not inconsistent with the World Trade Organization's decision in United States—Use of Zeroing in Anti-Dumping Measures Involving Products from Korea regarding the investigation of diamond sawblades and parts thereof (“Diamond Sawblades”) from the Republic of Korea (“Korea”). The Department issued its determination on October 4, 2011. The Department is now implementing this determination.

DATES: Effective Date: October 24, 2011.

FOR FURTHER INFORMATION CONTACT: David Layton or Yasmin Nair, AD/CVD Operations, Office 1, Import Administration, International Trade Administration, U.S. Department of Commerce, 14th Street and Constitution Avenue NW., Washington, DC 20230; telephone: (202) 482-0371, or (202) 482-3813, respectively.

SUPPLEMENTARY INFORMATION:

Background

On July 20, 2011, the Department informed interested parties that it was initiating a proceeding under section 129 of the Uruguay Round Agreements Act (“URAA”) to implement the findings of the World Trade Organization (“WTO”) dispute settlement panel in United States—Use of Zeroing in Anti-Dumping Measures Involving Products from Korea (WT/DS402/R) (January 18, 2011). On July 20, 2011, the Department issued the memorandum entitled “Preliminary Results Under Section 129 of the Uruguay Round Agreements Act: Antidumping Measures on Diamond Sawblades and Parts Thereof from the Republic of Korea” (“Preliminary Results”) in which it recalculated the weighted-average dumping margins from the antidumping investigation of Diamond Sawblades from Korea ¹ by applying the calculation methodology described in Antidumping Proceedings: Calculation of the Weighted-Average Dumping Margin During an Antidumping Investigation; Final Modification, 71 FR 77722 (December 27, 2006).

¹ See Notice of Final Determination of Sales at Less Than Fair Value and Final Determination of Critical Circumstances: Diamond Sawblades and Parts Thereof from the Republic of Korea, 71 FR 29310 (May 22, 2006), as amended by Amended Final Determination of Sales at Less Than Fair Value: Diamond Sawblades and Parts Thereof From the Republic of Korea, 75 FR 14126 (March 24, 2010).

The Department invited interested parties to comment on the Preliminary Results. After receiving comments and rebuttal comments from the interested parties, the Department issued its final results for the section 129 determination on October 4, 2011. See the October 4, 2011 memorandum entitled, “Issues and Decision Memorandum for the Final Results of the Proceeding Under Section 129 of the Uruguay Round Agreements Act: Antidumping Measures on Diamond Sawblades and Parts Thereof from the Republic of Korea” (“Issues and Decision Memorandum”).

In its October 24, 2011 letter, USTR notified the Department that, consistent with section 129(b)(3) of the URAA, consultations with the Department and the appropriate congressional committees with respect to the October 4, 2011 determination have been completed. Thus, USTR directed the Department to implement this determination, in accordance with section 129(b)(4) of the URAA.

Nature of the Proceeding

Section 129 of the URAA governs the nature and effect of determinations issued by the Department to implement findings by WTO dispute settlement panels and the Appellate Body. Specifically, section 129(b)(2) of the URAA provides that, “notwithstanding any provision of the Tariff Act of 1930,” within 180 days of a written request from the USTR, the Department shall issue a determination that would render its actions not inconsistent with an adverse finding of a WTO panel or the Appellate Body report. See 19 USC 3538(b)(2). The Statement of Administrative Action, URAA, H. Doc. 316, Vol. 1, 103d Cong. (1994) (“SAA”), variously refers to such a determination by the Department as a “new,” “second,” and “different” determination. See SAA at 1025, 1027. After consulting with the Department and the appropriate congressional committees, USTR may direct the Department to implement, in whole or in part, the new determination made under section 129 of the URAA. See 19 USC 3538(b)(4). Pursuant to section 129(c) of the URAA, the new determination shall apply with respect to unliquidated entries of subject merchandise that are entered, or withdrawn from warehouse, for consumption on or after the date on which USTR directs the Department to implement the new determination. See 19 USC 3538(c). The new determination is subject to judicial review separate and apart from judicial review of the Department's original determination. See 19 USC 1516a(a)(2)(B)(vii).

Analysis of Comments Received

The issues raised in the case and rebuttal briefs submitted by interested parties to this proceeding are addressed in the Issues and Decision Memorandum dated October 4, 2011, which is hereby adopted by this notice. A list of the issues raised is attached to this notice as Appendix I. The Issues and Decision Memorandum is a public document and is on file electronically via Import Administration's Antidumping and Countervailing Duty Centralized Electronic Service System (IA ACCESS). Access to IA ACCESS is available in the Central Records Unit (CRU), room 7046 of the main Department of Commerce building. In addition, a complete version of the Issues and Decision Memorandum can be accessed directly on the internet at http://www.trade.gov/ia/. The signed Issues and Decision Memorandum and the electronic versions of the Issues and Decision Memorandum are identical in content.

Final Antidumping Duty Margins

The recalculated margins, unchanged from the Preliminary Results, are as follows:

• The margin for Ehwa Diamond Industrial Co., Ltd. decreases from 8.80 percent to zero.

• The margin for Shinhan Diamond Industrial Co. decreases from 16.88 percent to zero.

• The margin for Hyosung Diamond Industrial Co. decreases from 6.43 percent to zero.

• Because the changes to the margin calculations result in no margins for the three mandatory respondents, the All Others rate decreases from 11.10 percent to zero.

Revocation of the Antidumping Duty Order

As a result of the recalculations, all of the dumping margins are now zero. Accordingly, the Department is now revoking this order effective October 24, 2011, the date upon which USTR directed the Department to implement its final results.

We will instruct U.S. Customs and Border Protection to liquidate, without regard to antidumping duties, all entries of the subject merchandise entered, or withdrawn from warehouse, for consumption on or after October 24, 2011 (the effective date), and to discontinue collection of cash deposits of antidumping duties.²

² Pursuant to a Temporary Restraining Order issued by the U.S. Court of International Trade on October 13, 2011, the Department of Commerce and U.S. Customs and Border Protection are restrained from lifting the suspension of liquidation on unliquidated entries of diamond sawblades and parts thereof from the Republic of Korea. Pursuant to this Federal Register notice, future entries of such merchandise are subject to suspension of liquidation at the cash deposit rate of zero. Changes to the suspension of liquidation will be consistent with the Court's final ruling.

This determination is issued and published in accordance with section 129(c)(2)(A) of the URAA.

Dated: October 24, 2011.
Ronald K. Lorentzen,
Deputy Assistant Secretary for Import Administration.

Appendix I

Issues raised in the Issues and Decision Memorandum.

Comment 1: Whether the Department of Commerce has the authority to revoke the antidumping duty order.

Comment 2: Whether the Department should reset the cash deposit rates to zero in lieu of revocation.

[FR Doc. 2011-27971 Filed 10-27-11; 8:45 am]

BILLING CODE 3510-DS-P